DEPARTMENT OF ENERGY

Federal Energy Regulatory Commission

Sunshine Act Meeting

AGENCY HOLDING MEETING: Federal Energy Regulatory Commission.

FEDERAL REGISTER CITATION OF PREVIOUS ANNOUNCEMENT: July 16, 2002; 67 FR 46656.

PREVIOUSLY ANNOUNCED TIME AND DATE OF MEETING: July 17, 2002; 10 a.m.

CHANGE IN THE MEETING: The following Docket No. and Company has been added to Item G-21 on the Commission Meeting of July 17, 2002.

Item No. | Docket No. and Company
G-21 | Docket No. RP01-01-507-000, Transwestern Pipeline Company.

Magalie R. Salas,
Secretary.

[FR Doc. 02-19783 Filed 7-19-02; 8:45 am]

BILLING CODE 6717-01-M